DEPARTMENT OF COMMERCE

Submission for OMB Review; Comment Request

The Department of Commerce will submit to the Office of Management and Budget (OMB) for clearance the following proposal for collection of information under the emergency provisions of the Paperwork Reduction Act (44 U.S.C. chapter 35).

Agency: U.S. Census Bureau.

Title: Local Update of Census Addresses (LUCA) Program.

Form Number(s):

D-1668—Registration Form—English

D-1668(PR)(S)—Registration Form—Spanish

D-1669—Confidentiality Agreement Form—English

D-1669(PR)(S)—Confidentiality Agreement Form—Spanish

D-1670—Participation Option/Product Preference Form

D-1670(LTW)—Product Preference Form—Mailed to entities wholly within a federally-recognized American Indian reservation and/or trust land

D-1670(SG)—Participation Option/GIS Preference/County Selection Form—mailed to governors only (state level form)

D-1670(PR)(S)—Participation Option/Product Preference Form—Spanish

D-1670(SG)(PR)(S)—Participation Option/GIS Preference/County Selection Form—mailed to governors only (state level form)

D-1671—Inventory Form—English

D-1671(PR)(S)—Inventory Form—Spanish

D-1673—Closeout Letter

D-1673 (PR) (S)—Closeout Letter

D-1674—Return/Destruction Form—English

D-1674(PR)(S)—Return/Destruction Form—Spanish

D-1676—Self-Assessment Checklist—English

D-1676(PR)(S)—Self-Assessment Checklist—Spanish

D-1690(LG)—Address List—local government

D-1690(TG)—Address List—tribal government

D-1690(PR)(S)—Address List—Puerto Rico (Spanish)

D-1691(LG)—Address List Add Page—local government

D-1691(TG)—Address List Add Page—tribal government

D-1691(PR)(S)—Address List Add Page—Puerto Rico (Spanish)

D-1692(LG)—Address Count List—local government

D-1692(TG)—Address Count List—tribal government

D-1692(PR)—Address Count List—Puerto Rico (Spanish)

Agency Approval Number: 0607-0795.

Type of Request: Emergency submission.

Burden: 3,909,829 hours.

Number of Respondents: 19,780.

Average Hours per Response: 198.

Needs and Uses: The LUCA Program was developed by the U.S. Census Bureau to meet the requirements of the Census Address List Improvement Act of 1994, Public Law 103-430. Under the voluntary LUCA Program, participating governments may review the Census Bureau's confidential list of individual living quarters addresses and provide to the Census Bureau address additions, corrections, deletions, and/or the identification of corrected address counts for census blocks; street and street attribute updates; and legal boundary updates. Governments electing to participate in the LUCA program also provide program contact information, certification of their agreement to maintain the confidentiality of the Census Bureau address information, responses regarding their physical and information technology security capabilities, program option and product media preference information, shipment inventory information, and certification of their return/destruction of materials containing confidential data. The program will be available to tribal, state, and local governments, and the District of Columbia and Puerto Rico (or their designated representatives) in areas for which the Census Bureau performs a precensus address canvassing operation (excluded are sparsely settled areas in the states of Alaska and Maine). The LUCA program includes federally recognized American Indian tribes with reservations and/or off-reservation trust lands, states, and general-purpose local governments, such as cities and townships, for which the Census Bureau reports data. This information collection will occur between August 2007 and April 2008.

The information to be collected in the LUCA Program is essential to the mission of the Census Bureau and will directly contribute to the successful outcome of Census 2010. The Census Bureau will use the LUCA program to help develop the housing unit and group quarters (e.g., college dormitory, nursing home, correctional facility, etc.) address information that it will need to conduct the 2010 Decennial Census. Because tribal, state, and local governments have current knowledge of and data about where housing growth and change are occurring in their jurisdictions, their input into the overall development of the address list for the census makes a vital contribution.

The Census Bureau requests expedited OMB approval of the LUCA Program by July 15, 2007.

Affected Public: State, local and Tribal governments.

Frequency: One-time.

Respondent's Obligation: Voluntary.

Legal Authority: Title 13 U.S.C., Section 16.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by July 15, 2007 to Brian Harris-Kojetin, OMB Desk Officer either by fax (202-395-7245) or e-mail (bharrisk@omb.eop.gov).

Dated: June 12, 2007.
Gwellnar Banks,
Management Analyst, Office of the Chief Information Officer.

[FR Doc. E7-11601 Filed 6-14-07; 8:45 am]

BILLING CODE 3510-07-P